NUCLEAR REGULATORY COMMISSION

10 CFR Part 72

RIN 3150-AH13

List of Approved Spent Fuel Storage Casks: FuelSolutions™ Cask System Revision; Confirmation of Effective Date

AGENCY: Nuclear Regulatory Commission.

ACTION: Direct final rule; confirmation of effective date.

SUMMARY: The Nuclear Regulatory Commission (NRC) is confirming the effective date of May 7, 2003, for the direct final rule that appeared in the Federal Register of February 21, 2003 (68 FR 8445). This direct final rule amended the NRC's regulations by revising the BNFL Fuel Solutions Corporation (FuelSolutions ™) Spent Fuel Management System listing within the “List of approved spent fuel storage casks” to include Amendment No. 3 to Certificate of Compliance No. 1026. This document confirms the effective date.

DATES: The effective date of May 7, 2003, is confirmed for this direct final rule.

ADDRESSES: Documents related to this rulemaking, including comments received, may be examined at the NRC Public Document Room, 11555 Rockville Pike, Rockville, MD. These same documents may also be viewed and downloaded electronically via the rulemaking website (http://ruleforum.llnl.gov). For information about the interactive rulemaking website, contact Ms. Carol Gallagher at (301) 415-5905; e-mail cag@nrc.gov.

FOR FURTHER INFORMATION CONTACT: Jayne M. McCausland, Office of Nuclear Material Safety and Safeguards, U.S. Nuclear Regulatory Commission, Washington, DC 20555-0001; (301) 415-6219; e-mail jmm2@nrc.gov.

SUPPLEMENTARY INFORMATION: On February 21, 2003 (68 FR 8445), the NRC published in the Federal Register a direct final rule amending its regulations in 10 CFR part 72 to include Amendment No. 3 to Certificate of Compliance Number 1026. Amendment No. 3 modifies the present cask system design to change the W-21 canister Technical Specifications and bases to provide an alternative to returning the canister to the spent fuel building by returning it to the transfer cask. Specifically, Technical Specifications 3.3.2 and 3.3.3 have been modified to allow the W-21 canister to be returned to the transfer cask while restoring normal storage conditions. The amendment also includes several editorial changes to Technical Specifications 3.1.1, 3.3.2, and 3.3.3.

In the direct final rule, NRC stated that if no significant adverse comments were received, the direct final rule would become final on the date noted above. The NRC did not receive any comments that warranted withdrawal of the direct final rule. Therefore, this rule will become effective as scheduled.

Dated at Rockville, Maryland, this 24th day of April, 2003.
For the Nuclear Regulatory Commission.
Michael T. Lesar,
Chief, Rules and Directives Branch, Division of Administrative Services, Office of Administration.

[FR Doc. 03-10729 Filed 4-30-03; 8:45 am]

BILLING CODE 7590-01-P